DEPARTMENT OF AGRICULTURE

Forest Service

Eldorado and Stanislaus National Forests; California; Mokelumne Amador Calaveras Forest Resilience Project

AGENCY: Forest Service, Agriculture (USDA).

ACTION: Notice of intent to prepare an Environmental Impact Statement.

SUMMARY: The Forest Service (“Forest Service”), United States Department of Agriculture is preparing an Environmental Impact Statement (EIS) for the Mokelumne Amador Calaveras (MAC) Forest Resilience Project. The MAC Forest Resilience Project is a 246,838-acres planning effort designed to address the threats wildfire and climate change elicit to watershed resiliency at a scale and intensity that will be effective in improving our ability to protect communities, critical infrastructure, wildlife habitat and ecosystem services. Current forest conditions have placed the Project Area at an elevated risk of high-severity wildfires. The proposed action includes vegetation management treatments designed to better align current forest structure and composition with desired conditions, focusing on fuel reduction, forest thinning, prescribed fire, fuel break construction and maintenance, non-native invasive plant control and eradication, and other ecological and watershed restoration activities. The Planning, Appeals, and Litigation System identification number for the project is 65796.

DATES: Comments concerning the scope of the analysis must be received by October 28, 2024. The draft environmental impact statement is expected mid-2025 and the final environmental impact statement is expected early 2026.

ADDRESSES: Submit written comments via mail or by hand delivery to Eldorado National Forest Supervisor's Office at 100 Forni Road, Placerville, CA 95667. Comments may be submitted electronically online via the project website https://www.fs.usda.gov/project/?project=65796. From the project website, click on the `Comment/Object on Project' link located on the right-hand side under the `Get Connected' box.

FOR FURTHER INFORMATION CONTACT: Carinna Robertson, Resource Management Staff Officer via email at carinna.robertson@usda.gov, or by phone at 1-209-813-6039. Individuals who use telecommunication devices for the deaf (TDD) may call the Federal Information Relay Service (FIRS) at 800-877-8339, 24 hours a day, every day of the year, including holidays.

SUPPLEMENTARY INFORMATION:

Purpose and Need for Action

The purpose of MAC Forest Resilience Project is to restore ecosystem health and resilience to wildfire, insect and disease, drought, and climate change; reduce safety hazards across public lands; reduce the spread of non-native species; maintain and support local economies, and maintain and improve aspen groves, riparian areas, streams, and meadows. The proposed actions are needed to reduce the risks of wildfire within and adjacent to USDA Forest Service managed lands, improve and maintain safe ingress/egress routes for fire personnel, equipment, and the public, maintain and promote plant and wildlife habitat and biodiversity, and reduce the spread of non-native invasive plants.

Proposed Action

The MAC Forest Resilience Project will include a broad range of management activities to meet the purpose and need of the project. A combination of commercial and non-commercial mechanical forest thinning, other mechanical and hand fuel treatments, prescribed fire, hazard tree removal, salvage logging, invasive species treatments, and additional ecological restoration activities are proposed. Forest thinning will be implemented to reduce fuel loads, reduce stand densities, and increase forest heterogeneity across the landscape. Multiple logging systems, road maintenance, temporary road construction, and landing development will be required for product removal during forest thinning.

Shaded fuel breaks will be constructed and maintained to break up large expanses of continuous fuels, support firefighter access and safety, and provide control points for the implementation of prescribed fire.

Prescribed fire treatments will be implemented, including, but not limited to, pile burning and understory broadcast burning, to reduce fuel loads, increase understory productivity and diversity, and allow fire to perform its natural ecological role.

Hazard trees will be identified, felled, and removed to improve safety along roadways, recreation areas, trails, access routes, infrastructure, and other specific areas. Salvage of insect-, disease-, drought-, and fire-killed trees is included to efficiently eliminate accumulated fuels and to facilitate a rapid response to mortality events.

Non-native invasive plant control and eradication treatments are proposed for known infestations and for future new infestations. Manual, biological, and chemical control or targeted grazing methods will be used to eradicate infestations or to contain or control their spread.

Ecological restoration activities will include aspen grove maintenance and improvement, riparian improvements such as native plant plantings and streambank stabilization, removal of encroaching conifers and trail and road rerouting around meadows, as well as process-based stream restoration techniques and aquatic organism passage improvements.

Treatments will be implemented using a staged approach over the next 10 years. Follow-up treatments to achieve or maintain desired conditions will be implemented beyond 10 years. To determine priorities and locations for treatments, spatial modeling will be used to identify focus areas for maximizing effectiveness. The proposed action will include an extensive list of management requirements, including restrictions, constraints, and retention requirements for protection of resources and to ensure compliance with applicable laws, regulations, and policy.

Forest Plan Amendments

The proposed action will include project-specific forest plan amendments to implement the management approaches and conservation measures presented in the Conservation Strategy for the California Spotted Owl in the Sierra Nevada (USDA Forest Service 2019).

The EIS will also consider an alternative developed in compliance with the existing Forest Plans to enable a comparative assessment of the proposed action developed in compliance with the project-specific forest plan amendments and similar actions proposed under current plan direction. The Eldorado and Stanislaus Forests will each make independent decisions on the potential future adoption of any project-specific Forest Plan amendments included in the EIS.

Expected Impacts

The MAC Forest Resilience Project EIS will evaluate both the effectiveness of the proposed action and action alternative(s) at meeting the purpose and needs of the project and the potential environmental consequences of these proposed actions in comparison to the no action alternative. The EIS will focus the analysis to address significant issues identified through the public scoping process. The project is expected to significantly increase forest health and resilience by reducing the likelihood of high-severity wildfire, reducing stand densities, and increasing forest heterogeneity. Restoration to healthier, more resilient and more fire-resistant forests will reduce uncontrolled emissions and public health impacts from wildfire smoke over the long term, improve growth, life span, and carbon storage of residual trees. Surface water quality, supply, and reliability will be protected by reducing fire-induced soil erosion, benefiting local and downstream users, hydroelectric and water supply infrastructure, and special-status species.

The consequences of taking no action are high. The area would remain at an elevated risk of high-severity wildfire that would result in forest and wildlife habitat losses and watershed degradation. The treatments proposed to create the desired conditions may cause short-term impacts to sensitive resources, including California spotted owl protected activity centers.

Responsible Officials

The Responsible Officials will be Amy Reid, Acting Forest Supervisor, Eldorado National Forest, and Jason Kuiken, Forest Supervisor, Stanislaus National Forest.

Scoping Comments and the Objection Process

This notice of intent initiates the scoping process, which guides the development of the environmental impact statement. In this process the Agency is requesting comments on potential alternatives and impacts, and identification of any relevant information, studies, or analyses of any kind concerning impacts affecting the quality of the human environment. There will be up to two public workshops during the scoping period.

It is important that reviewers provide their comments at such times and in such manner that they are useful to the agency's preparation of the final EIS; therefore, comments should be provided prior to the close of the comment period and should clearly articulate the reviewer's concerns and contentions. Commenting during scoping and any other designated opportunity to comment provided by the Responsible Official as prescribed by the applicable regulations will also govern eligibility to object once the final EIS and draft Record of Decision has been published. Comments received in response to this solicitation, including names and addresses of those who comment, will be part of the public record for this proposed action. Comments submitted anonymously will be accepted and considered; however, they will not be used to establish eligibility for the objection process.

Objections will be accepted only from those who have previously submitted specific written comments regarding the proposed project during scoping or other designated opportunity for public comment in accordance with § 218.5(a). Issues raised in objections must be based on previously submitted timely, specific written comments regarding the proposed project unless based on new information arising after designated opportunities.

Permits, Licenses or other Authorizations Required

The Project includes actions within aquatic or riparian areas that may be subject to future permitting requirements under Section 404 of the Clean Water Act (CWA), Section 401 of the CWA, and/or Section 1600 et seq of California Fish and Game Code. Additionally, the Project will require consultation with the United States Fish and Wildlife Service (USFWS) on listed species. Based on current and potential future funding from the state of California, compliance with the California Environmental Quality Act will be required.

Nature of Decision To Be Made

Given the purpose and need, the Responsible Officials will determine whether the proposed actions comply with all applicable laws governing Forest Service actions and with the applicable standards and guidelines found in the Forest Plans of the Eldorado National Forest and Stanislaus National Forest; whether the EIS has sufficient environmental analysis to make an informed decision; and whether the proposed action and any action alternatives meet the purpose and needs for action. With this information, the Responsible Officials must decide whether to select the proposed action and what, if any, additional actions should be required.

Substantive Provisions

The substantive provisions of 36 CFR 219.8 through 219.11 that may directly apply to the proposed project-specific forest plan amendments are 36 CFR 219.9 Diversity of Plant and Animal Communities, (a) Ecosystem plan components, (1) Ecosystem integrity (36 CFR 219 (a)(1)); 36 CFR 219.9 Diversity of Plant and Animal Communities, (a) Ecosystem plan components, (2) Ecosystem diversity, (i) key characteristics associated with the terrestrial and aquatic ecosystem types (36 CFR 219(a)(2)(I)); 36 CFR 219.9 Diversity of Plant and Animal Communities, (a) Ecosystem plan components, (2) Ecosystem diversity, (ii) rare aquatic and terrestrial plant and animal communities (36 CFR 219 (a)(2)(ii)); and 36 CFR 219.8 Sustainability, (b) Social and Economic Sustainability, (1) Social, cultural, and economic conditions relevant to the area influenced by the plan (36 CFR 219.8(b)(1)).

Keith Lannom,
Associate Deputy Chief, National Forest System.

[FR Doc. 2024-22038 Filed 9-25-24; 8:45 am]

BILLING CODE 3411-15-P